DEPARTMENT OF COMMERCE

National Oceanic and Atmospheric Administration

43rd Meeting of the U.S. Coral Reef Task Force

AGENCY: Coral Reef Conservation Program (CRCP), Office for Coastal Management (OCM), National Ocean Service (NOS), National Oceanic and Atmospheric Administration (NOAA), Department of Commerce (DOC).

ACTION: Notice of public meeting; request for public comment.

SUMMARY: The National Oceanic and Atmospheric Administration (NOAA) and the U.S. Department of Interior (DOI) will hold a public meeting of the 43rd U.S. Coral Reef Task Force (USCRTF). NOAA and DOI will be accepting oral and written comments.

DATES: The public meeting will be held on Wednesday, March 18, 2020, from 8:30 a.m. to 5 p.m. with an opportunity to provide public comments. Written comments must be received on or before March 12, 2020.

For the specific date, time, and location of the public meeting, see SUPPLEMENTARY INFORMATION.

ADDRESSES: You may submit comments to the USCRTF by any of the following methods:

Public Meeting and Oral Comments: A public meeting will be held in Washington, DC NOAA and DOI will be accepting oral comments at this meeting. For the specific location, see SUPPLEMENTARY INFORMATION.

Written Comments: Please direct written comments to Jason Philibotte, NOAA, USCRTF Steering Committee Point of Contact, NOAA Coral Reef Conservation Program, 1305 East-West Highway, NOS/OCM, Silver Spring, MD 20910 or via email to Jason.Philibotte@noaa.gov. Comments that the USCRTF Steering Committee Point of Contact receives are considered part of the public record and may be publicly accessible. Any personally identifiable information (e.g., name, address) submitted voluntarily by the sender may also be publicly accessible. NOAA will accept anonymous comments (enter “N/A” in the required fields if you wish to remain anonymous).

FOR FURTHER INFORMATION CONTACT: Jason Philibotte, NOAA USCRTF Steering Committee Point of Contact, NOAA Coral Reef Conservation Program, 1305 East-West Highway, NOS/OCM, Silver Spring, MD 20910 at (301) 533-0767 or Liza Johnson, USCRTF Executive Secretary, U.S. Department of Interior, MS-3530-MIB, 1849 C Street NW, Washington, DC 20240 at (202) 208-5004 or visit the USCRTF website at http://www.coralreef.gov.

SUPPLEMENTARY INFORMATION: The meeting provides a forum for coordinated planning and action among federal agencies, state and territorial governments, and nongovernmental partners. Registration is requested for all events associated with the meeting. This meeting has time allotted for public comment. All public comments must be submitted in written format. A written summary of the meeting will be posted on the USCRTF website within two months of occurrence. For information about the meeting, registering and submitting public comments, go to http://www.coralreef.gov.

Commenters may address the meeting, the role of the USCRTF, or general coral reef conservation issues. Before including your address, phone number, email address, or other personally identifiable information in your comments, you should be aware that your entire comment, including personally identifiable information, may be made publicly available at any time. While you can ask us in your comment to withhold your personally identifiable information from public review, we cannot guarantee that we will be able to do so.

Established by Presidential Executive Order 13089 in 1998, the USCRTF mission is to lead, coordinate and strengthen U.S. government actions to better preserve and protect coral reef ecosystems. Co-chaired by the Departments of Commerce and Interior, USCRTF members include leaders of 13 federal agencies, seven U.S. states and territories, and three freely associated states.

You may participate and submit oral comments at the public meeting. The public meeting occurs annually in Washington, DC, and is scheduled as follows:

Date: Wednesday, March 18, 2020.

Time: 8:30 a.m. to 5 p.m., local time.

Location: Department of Interior, Auditorium, 1849 C St. NW, Washington, DC 20240.

Written comments must be received on or before Thursday, March 12, 2020.

Dated: February 28, 2020.
Nicole R. LeBoeuf,
Acting Assistant Administrator, National Ocean Service, National Oceanic and Atmospheric Administration.

[FR Doc. 2020-04443 Filed 3-3-20; 8:45 am]

BILLING CODE 3510-08-P